DEPARTMENT OF TRANSPORTATION

Federal Aviation Administration

14 CFR Part 39

[Docket No. FAA-2005-21725; Directorate Identifier 2004-SW-45-AD]

RIN 2120-AA64

Airworthiness Directives; Bell Helicopter Textron Model 47D1, 47G, 47G-2, 47G-2A, 47G-2A-1, 47G-3, 47G-3B, 47G-3B-1, 47G-3B-2, 47G-3B-2A, 47G-4, 47G-4A, 47G-5, 47G-5A and Coastal Helicopters, Inc. Model OH-13H (Tomcat Mark 5A, 6B, 6C) Helicopters

AGENCY: Federal Aviation Administration, DOT.

ACTION: Notice of proposed rulemaking (NPRM).

SUMMARY: This document proposes adopting a new airworthiness directive (AD) for Bell Helicopter Textron (Bell) Model 47D1, 47G, 47G-2, 47G-2A, 47G-2A-1, 47G-3, 47G-3B, 47G-3B-1, 47G-3B-2, 47G-3B-2A, 47G-4, 47G-4A, 47G-5, 47G-5A and Coastal Helicopters, Inc. Model OH-13H (Tomcat Mark 5A, 6B, 6C) helicopters that have a certain scissors assembly or weld assembly scissors bracket installed. The AD would require, within 60 days, determining and recording the total hours time-in-service (TIS) for each Parts Manufacturer Approval (PMA)-produced scissors assembly and weld assembly scissors bracket and would establish a life limit for each affected part. This proposal is prompted by the need to establish a life limit on scissors assemblies and weld assembly scissors brackets produced under PMA No. PQ808SW or installed per Supplemental Type Certificate (STC) No. SH2772SW. The actions specified by the proposed AD are intended to establish a life limit to prevent using a scissors assembly or weld assembly scissors bracket past its life limit, which could result in failure of the part and subsequent loss of control of the helicopter.

DATES: Comments must be received on or before September 6, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Texas Helicopter Co., Inc., PO Box 177686, Irving, Texas 75017, phone (972) 399-1045, fax (972) 790-6397.

You may examine the comments to this proposed AD in the AD docket on the Internet at http://dms.dot.gov.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION:

Comments Invited

We invite you to submit any written data, views, or arguments regarding this proposed AD. Send your comments to the address listed under the caption ADDRESSES. Include the docket number “FAA-2005-21725, Directorate Identifier 2004-SW-45-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

During FAA surveillance we discovered that an operator did not know the life limit for the weld assembly scissors bracket that was installed on his helicopter. The operator assumed that his assembly had the same life limit as the one built by the original equipment manufacturer; we discovered that when the PMA and STC were granted, the life limit was not established. We propose to correct that oversight by this AD action.

We have reviewed Texas Helicopter Co., Inc. (THC) Service Bulletin No. SB 003, dated December 1, 2002. THC holds STC No. SH2772SW and produces parts under PMA No. PQ808SW. That service bulletin was issued to clarify maintenance inspections and retirement schedules. The service bulletin specifies maintaining Bell Model 47 series and all other helicopters utilizing a 74-150-259-1M or 74-150-259-3M control installation per STC SH2772SW or 74-150-117-13M scissors bracket weld assembly as PMA replacement, in accordance with THC Instructions For Continued Airworthiness (ICA), Doc. No. THC 2002-22 Rev. 0, dated December 1, 2002. Those ICAs refer to STC SH2772SW and contain the mandatory retirement times for the scissors assembly and weld assembly scissors bracket in the Airworthiness Limitations section.

An unsafe condition is likely to exist or develop on other helicopters of the same type design if the proposed life limits are not followed. Therefore, the proposed AD would require, within 60 days, determining and recording on the component service record or equivalent record the total hours TIS of each affected part. If the hours TIS cannot be determined, replacing the part with an airworthy part with known hours TIS would be required before further flight. The proposed AD would also establish a life limit for scissors assemblies and weld assembly scissors brackets produced by THC PMA No. PQ808SW or installed per THC STC No. SH2772SW.

Based on the manufacturer's production estimate, this proposed AD would affect 350 helicopters of U.S. registry. Determining and recording the initial hours TIS of each scissors assembly would take 1 hour, replacing a scissors assembly would take 2 hours, and replacing a weld assembly scissors bracket would take 8 hours. The average labor rate is $65 per work hour. Required parts would cost approximately $1,300 for the 2 scissors assemblies required per helicopter and $2,500 for each weld assembly scissors bracket required per helicopter. Based on these figures, the total cost impact of the proposed AD on U.S. operators would be $1,580,250, assuming all operators determine and record the hours TIS once, and replace the scissors assembly and weld assembly scissors bracket once.

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic analysis of the estimated costs to comply with this proposed AD. See the DMS to examine the draft economic analysis.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron (Bell) and Coastal Helicopters, Inc. (CCI) (formerly Continental Copters, Inc.; and Tom-Cat Helicopters, Inc.): Docket No. FAA-2005-21725; Directorate Identifier 2004-SW-45-AD.

Applicability: The following helicopter models with the referenced Texas Helicopter Co., Inc. (THC) scissors assembly part number (P/N) or weld assembly scissors bracket P/N installed as a Parts Manufacturer Approval (PMA) replacement part or as part of the modification in accordance with Supplemental Type Certificate (STC) No. SH2772SW, certificated in any category.

Model | With scissors assembly P/N | Or weld assembly scissors bracket P/N
(1) Bell Model 47D1, 47G, 47G-2, 47G-2A, 47G-2A-1, 47G-3, 47G-3B, 47G-3B-1, 47G-3B-2, 47G-3B-2A, 47G-4, 47G-4A, 47G-5, 47G-5A; and | 74-150-949-9 or 74-150-949-5 or 74-150-249-5M | 74-150-117-13M
(2) CHI OH-13H (Tomcat Mark 5A, 6B, or 6C)

Compliance: Required as indicated, unless accomplished previously.

To prevent using a scissors assembly or weld assembly scissors bracket past it's life limit, which could result in failure of the part and subsequent loss of control of the helicopter, accomplish the following:

(a) Within 60 days, determine and record on the service record or equivalent record the total hours time-in-service (TIS) of each affected part. If the TIS hours cannot be determined, replace the part with an airworthy part with known hours TIS before further flight.

(b) Thereafter, replace each affected part before it accumulates 5,000 hours TIS.

Note: Texas Helicopter Co., Inc. Service Bulletin No. SB 003, dated December 1, 2002, pertains to the subject of this AD.

(c) This AD establishes a life limit of 5,000 hours TIS for each affected PMA-produced scissors assembly and each affected PMA-produced weld assembly scissors bracket.

(d) To request a different method of compliance or a different compliance time for this AD, follow the procedures in 14 CFR 39.19. Contact the Rotorcraft Certification Office, Rotorcraft Directorate, FAA, for information about previously approved alternative methods of compliance.

Issued in Fort Worth, Texas, on June 24, 2005.
David A. Downey,
Manager, Rotorcraft Directorate, Aircraft Certification Service.

[FR Doc. 05-13237 Filed 7-5-05; 8:45 am]

BILLING CODE 4910-13-P